DEPARTMENT OF AGRICULTURE

Natural Resources Conservation Service

Notice of Availability of Finding of No Significant Impact for the Conservation Security Program

AGENCY: Natural Resources Conservation Service, USDA.

ACTION: Notice.

SUMMARY: The Natural Resources Conservation Service (NRCS) has prepared a Finding of No Significant Impact (FONSI) and an Environmental Assessment (EA) consistent with the National Environmental Policy Act (NEPA) of 1969, as amended, to implement the Conservation Security Program, which is authorized by title XII, chapter 2, subchapter A, of the Food Security Act of 1985, as amended by the Farm Security and Rural Investment Act of 2002. Upon review of the analysis of potential environmental impacts from a national perspective, the Chief of NRCS found that the program would not result in a significant impact on the quality of the human environment, particularly when focusing on the significant adverse impacts that NEPA is intended to help decisionmakers avoid and mitigate against. Therefore, a FONSI was issued, and no environmental impact statement is required for national implementation of the program.

DATES: To ensure consideration, comments on the EA and FONSI must be postmarked on or before February 10, 2005.

ADDRESSES: Comments must be sent to the Director of the Financial Assistance Programs Division, NRCS, U.S. Department of Agriculture, P.O. Box 2890, Room 5241-S, Washington, DC 20013-2890.

FOR FURTHER INFORMATION CONTACT: Copies of the FONSI, the Final EA, or additional information on matters related to this Federal Register Notice can be obtained by contacting one of the following individuals at the addresses and telephone numbers shown below:

Mr. Craig Derickson, Conservation Security Program Branch Chief, Financial Assistance Programs Division, NRCS, U.S. Department of Agriculture, P.O. Box 2890, Room 5233-S, Washington, DC 20013-2890, Telephone: (202) 720-3524.

Ms. Andrée DuVarney, National Environmental Specialist, Ecological Sciences Division, NRCS, U.S. Department of Agriculture, P.O. Box 2890, Room 6158-S, Washington, DC 20013-2890, Telephone: (202) 720-4925.

SUPPLEMENTARY INFORMATION:

Description of the Proposed Action

The Conservation Security Program (CSP) is a voluntary program providing both technical and financial assistance to producers of agricultural operations for the conservation and improvement of the quality of soil, water, air, energy, plant and animal life on working lands. The intent of the program is to recognize producers financially for the significant environmental goods and services they provide to the public through their annual and ongoing conservation stewardship efforts, to motivate other agricultural producers to do the same, and to secure the Nations ability to produce food and fiber. The need to which NRCS is responding by proposing action is the need to implement CSP in a manner that achieves the purposes for which Congress authorized it, including providing payments to producers who practice good conservation stewardship on their agriculture operations, providing payments to producers to maintain conservation practices they have implemented, to provide financial assistance to producers to implement new conservation practices, and to provide payments to producers as incentives to enhance their conservation achievements. Participation in the CSP requires that a Conservation Security Program Plan be developed which includes an inventory of the agricultural operation to identify existing resource concerns and benchmark conditions of the land as well as determining the extent of existing conservation treatment. Annual payments made under CSP contracts may include a stewardship payment for existing conservation treatments, cost-share and maintenance payments, and an enhancement payment for exceptional conservation effort. A three tiered approach is used to determine the level and limitations of all payments.

The Chief of NRCS has authority under CSP to assist producers who participate in the CSP to develop a comprehensive, long term strategy for improving and maintaining all natural resources of the producer's agricultural operation. All participants must meet the highly erodible land and wetland conservation provisions of the Food Security Act of 1985, as amended.

The CSP authorizes activities that reward agricultural producers for actions they have already taken to improve the quality and quantity of natural resources, and to implement new conservation measures that will also do so. NRCS has in the past and will continue to document the results of an environmental evaluation on a site-specific level consistent with NRCS policy and, as stated in the Environmental Assessment, will consult with the appropriate organizations to avoid, reduce or mitigate adverse impacts on protected resources. NRCS will comply with requirements protecting unique geographic features and other resources, as well as NRCS policies protecting natural and cultural resources. Thus, any adverse effects that may result from this program will occur at a much lower threshold than the Environmental Impact Statement threshold. Because the purpose of the program is to improve the quality of natural resources and because of the steps NRCS will take to work with other agencies as necessary on a site-specific basis to avoid, mitigate and reduce any potential collateral adverse effects, there is no threat of a violation of any Federal, State or local law or other requirements for the protection of the environment resulting from the proposed rule to implement the CSP. There is no impact on public health or safety identified in this EA or otherwise expected.

Implementation of the CSP rule is not sufficiently related to other actions that either individually or cumulatively is likely to result in the type of significant impacts that NEPA is intended to address. Based on the information in the EA for the CSP, the Chief of the NRCS finds that the proposed actions are not a major Federal action significantly affecting the quality of the human environment that requires preparation of an EIS.

Copies of the EA and FONSI may be reviewed at the following location: Financial Assistance Programs Division, NRCS, U.S. Department of Agriculture, Room 5241-S, Washington, DC 20013-2890. The documents may also be accessed on the Internet, at http://www.nrcs.usda.gov/programs/Env_Assess/CSP/CSP.html.

Signed in Washington, DC, on December 20, 2004.
Bruce I. Knight,
Chief, Natural Resources Conservation Service.

[FR Doc. 05-510 Filed 1-10-05; 8:45 am]

BILLING CODE 3410-16-P